DEPARTMENT OF HEALTH AND HUMAN SERVICES

Administration for Children and Families

Statement of Organization, Functions and Delegation of Authority

Notice is hereby given that I have delegated to the Director, Office of Family Assistance, the following authority vested in me by the Secretary of Health and Human Services in a memorandum dated September 16, 1997.

(a) Authority Delegated.

Authority to administer the provisions of the Child Care and Development Block Grant Amendments of 1996, 42 U.S.C. 9801 note, under Sections 601-615 of the Personal Responsibility and Work Opportunity Reconciliation Act of 1996, 42 U.S.C. 1305 note, 42 U.S.C. 601 et seq., and as amended now and hereafter.

(b) Limitations and Conditions.

1. This delegation shall be exercised under the Department's existing policies on delegations and regulations.

2. This delegation shall be exercised under financial and administrative requirements applicable to all Administration for Children and Families authorities.

3. Any redelegation shall be in writing and prompt notification must be provided to all affected managers, supervisors, and other personnel.

(c) Effect on Existing Delegations.

This delegation supersedes any previous delegation of authority pertaining to the Child Care and Development Block Grant Program to the Administration on Children, Youth and Families (ACYF) and officials within ACYF.

(d) Effective Date.

This delegation was effective on July 24, 2006.

I hereby affirm and ratify any actions taken by the Director, Office of Family Assistance, which involved the exercise of the authority delegated herein prior to the effective date of this delegation.

Dated: August 7, 2006.
Wade F. Horn,
Assistant Secretary for Children and Families.

[FR Doc. E6-13332 Filed 8-14-06; 8:45 am]

BILLING CODE 4184-01-P